FEDERAL ELECTION COMMISSION

Sunshine Act Meetings

AGENCY: Federal Election Commission.

DATE AND TIME: Thursday, October 1, 2015 at 10:00 a.m.

PLACE: 999 E Street NW., Washington, DC (Ninth Floor).

STATUS: This meeting will be open to the public.

ITEMS TO BE DISCUSSED:

Draft Advisory Opinion 2015-07: Hillary for America

Draft Advisory Opinion 2015-08: Repledge

State and Local Ballot Measures and the Ban on Foreign National Contributions

Notice of Proposed Rulemaking on Reporting Multistate Independent Expenditures in Presidential Primary Elections

Commission Documents/Public Disclosure Policies

Management and Administrative Matters

Individuals who plan to attend and require special assistance, such as sign language interpretation or other reasonable accommodations, should contact Shawn Woodhead Werth, Secretary and Clerk, at (202)694-1040, at least 72 hours prior to the meeting date.

PERSON TO CONTACT FOR INFORMATION: Judith Ingram, Press Officer, Telephone: (202) 694-1220.

Shawn Woodhead Werth,
Secretary and Clerk of the Commission.

[FR Doc. 2015-24501 Filed 9-22-15; 4:15 pm]

BILLING CODE 6715-01-P